Title 3—

The President

Memorandum of December 10, 2013

Delegation of Authority Under Section 506(a)(1) of the Foreign Assistance Act of 1961, as Amended

Memorandum for the Secretary of State

By the authority vested in me as President by the Constitution and the laws of the United States of America, including section 301 of title 3, United States Code, I hereby delegate to the Secretary of State the authority under section 506(a)(1) of the Foreign Assistance Act of 1961, as amended, to direct the drawdown of up to $60 million in defense articles from the stocks of the Department of Defense (DOD) and defense services of the DOD to provide assistance to France, the African Union, the Republic of the Congo, Chad, Cameroon, Gabon, Burundi, Uganda, Rwanda, and other countries that contribute forces to the African Union-led International Support Mission in the Central African Republic and to make the determinations required under such section to direct such a drawdown.

You are authorized and directed to publish this memorandum in the Federal Register.

THE WHITE HOUSE,

Washington, December 10, 2013.

[FR Doc. 2013-30982

Filed 12-23-13; 11:15 am]

Billing code 4710-10